SMALL BUSINESS ADMINISTRATION

[Disaster Declaration # 12038 and # 12039]

California Disaster # CA-00150

AGENCY: U.S. Small Business Administration.

ACTION: Amendment 1.

SUMMARY: This is an amendment of the Administrative declaration of disaster for the State of California, dated 02/16/2010.

Incident: Severe winter storms, heavy snow, flooding, debris flows and mudslides.

Incident Period: 01/17/2010 through 03/01/2010.

Effective Date: 03/26/2010.

Physical Loan Application Deadline Date: 04/19/2010.

EIDL Loan Application Deadline Date: 11/16/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Administrative disaster declaration for the State of California, dated 02/16/2010 is hereby amended to establish the incident period for this disaster as beginning 01/17/2010 and continuing through 03/01/2010.

All other information in the original declaration remains unchanged.

(Catalog of Federal Domestic Assistance Numbers 59002 and 59008)

Dated: March 26, 2010.
Karen G. Mills,
Administrator.

[FR Doc. 2010-7783 Filed 4-6-10; 8:45 am]

BILLING CODE 8025-01-P